DEPARTMENT OF LABOR

Employment and Training Administration

[TA-W-53,916]

Diamond Crown Company, New York, NY; Notice of Termination of Investigation

Pursuant to section 221 of the Trade Act of 1974, as amended, an investigation was initiated on December 31, 2003 in response to a worker petition filed by a company official on behalf of workers at Diamond Crown Company, New York, New York.

The petitioner has requested that the petition be withdrawn. Consequently, this investigation has been terminated.

Signed at Washington, DC, this 3rd day of February, 2004.
Richard Church,
Certifying Officer, Division of Trade Adjustment Assistance.

[FR Doc. 04-3566 Filed 2-18-04; 8:45 am]

BILLING CODE 4510-30-P